DEPARTMENT OF COMMERCE

National Oceanic and Atmospheric Administration

RIN 0648-XA532

Mid-Atlantic Fishery Management Council; Public Meetings

AGENCY: National Marine Fisheries Service (NMFS), National Oceanic and Atmospheric Administration (NOAA), Commerce.

ACTION: Notice of public meetings.

SUMMARY: The Mid-Atlantic Fishery Management Council's (MAFMC) Scientific and Statistical Committee (SSC) and the Bluefish, Summer Flounder, Scup, and Black Sea Bass Monitoring Committees will hold public meetings.

DATES: The SSC meeting will be held Wednesday and Thursday, July 27 and 28, 2011. The meeting will begin at 10 a.m. on July 27 and at 8:30 a.m. on July 28. These meetings will conclude by 5 p.m. each day. The Bluefish, Summer Flounder, Scup, and Black Sea Bass Monitoring Committees will meet on Friday, July 29, 2010 from 8:30 a.m. to 5 p.m.

ADDRESSES: All meetings will be held at the Pier 5 Hotel, 711 Eastern Avenue, Baltimore, MD 21202; telephone: (866) 583-4162.

Council addresss: Mid-Atlantic Fishery Management Council, 800 North State Street, Suite 201, Dover, DE 19901; telephone: (302) 674-2331.

FOR FURTHER INFORMATION CONTACT: Christopher M. Moore, Ph.D., Executive Director, Mid-Atlantic Fishery Management Council, 800 North State Street, Suite 201, Dover, DE 19901; telephone: (302) 674-2331, extension 255.

SUPPLEMENTARY INFORMATION: The agenda items for the SSC meeting include: (1) Review stock assessment information and specify overfishing level and acceptable biological catch (ABC) for bluefish, summer flounder, scup, and black sea bass for 2012; (2) review and comment on proposed 2012 quota specifications and management measures for bluefish, summer flounder, scup, and black sea bass for 2012; (3) Ecosystems Subcommittee Report; (4) research priorities for 2012; and (5) National SSC IV Meeting update.

The Bluefish, Summer Flounder, Scup, and Black Sea Bass Monitoring Committees will discuss and recommend 2012 annual catch targets (ACTs) and other associated management measures for the bluefish, summer flounder, scup, and black sea bass fisheries.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: June 28, 2011.
Tracey L. Thompson,
Acting Director, Office of Sustainable Fisheries, National Marine Fisheries Service.

[FR Doc. 2011-16647 Filed 7-1-11; 8:45 am]

BILLING CODE 3510-22-P